NATIONAL SCIENCE FOUNDATION

Advisory Committee for Environmental Research and Education: Notice of Meeting

In accordance with the Federal Advisory Committee Act (Pub. L. 92-463, as amended), the National Science Foundation announces the following meeting:

Name: Advisory Committee for Environmental Research and Education (9487).

Dates: September 16 & 17, 2015: 8 a.m.-5 p.m.

Place: National Science Foundation, 4201 Wilson Blvd., Stafford I, Room 1235, Arlington, Virginia 22230.

Type of Meeting: Open.

Contact Person: Diane Pataki, Program Director, National Science Foundation, Suite 655, 4201 Wilson Blvd., Arlington, Virginia 22230. Email: dpataki@nsf.gov.

Minutes: May be obtained from the contact person listed above.

Purpose of Meeting: To provide advice, recommendations, and oversight concerning support for environmental research and education.

Agenda

Wednesday, September 16, 2015

• Approval of minutes from past meeting

• Updates on recent NSF and other agency environmental activities

• Distribute and discuss the group's new document entitled, America's Future: Environmental Research and Education for a Thriving Century

• Presentation by Ken Calderia

• Meet with NSF Assistant Directors

Thursday, September 17, 2015

• Discuss and refine draft of the Decadal Vision for Environmental Research and Education document (Continued)

• Meet with the NSF Director

• AC Business—Set date for next meeting

Dated: July 31, 2015.
Crystal Robinson,
Committee Management Officer.

[FR Doc. 2015-19295 Filed 8-5-15; 8:45 am]

BILLING CODE 7555-01-P